FEDERAL COMMUNICATIONS COMMISSION

47 CFR Part 73

[DA 05-767; MB Docket No. 05-150; RM-11214]

Radio Broadcasting Services; Norfolk and Windsor, VA

AGENCY: Federal Communications Commission.

ACTION: Proposed rule.

SUMMARY: This document requests comments on a petition for rulemaking filed by Clear Channel Broadcasting Licenses, Inc., licensee of Stations WKUS(FM), Norfolk, Virginia and WJCD, Windsor, Virginia, proposing the reallotment of Channel 299A from Windsor to Norfolk, Virginia and the reallotment of Channel 287B from Norfolk to Windsor, Virginia, and the modification of the license for Station WKUS(FM) to reflect Windsor as its community of license and the modification of the license of Station WJCD(FM) to reflect Norfolk as its community of license. Channel 299A can be reallotted at Norfolk at a site 9.3 kilometers (5.8 miles) north of the community, at coordinates 36-55-26 NL and 76-15-05 WL. Channel 287B can be reallotted at Windsor at a site 12.7 kilometers (7.9 miles) east of the community at coordinates 36-48-47 NL and 76-35-57 WL.

DATES: Comments must be filed on or before May 12, 2005, and reply comments on or before, May 27, 2005.

ADDRESSES: Secretary, Federal Communications Commission, 445 Twelfth Street, SW., Washington, DC 20554. In addition to filing comments with the FCC, interested parties should serve the petitioner as follows: Mark N. Lipp, Esq., Scott Woodworth, Esq., Vinson & Elkins, L.L.P., 1455 Pennsylvania Avenue, NW., Suite 600, Washington, DC 20004-1008.

FOR FURTHER INFORMATION CONTACT: Victoria M. McCauley, Media Bureau, (202) 418-2180.

SUPPLEMENTARY INFORMATION: This is a synopsis of the Commission's Notice of Proposed Rule Making, MB Docket No. 05-150 adopted March 23, 2005, and released March 25, 2005. The full text of this Commission decision is available for inspection and copying during normal business hours in the FCC's Reference Information Center at Portals II, CY-A257, 445 Twelfth Street, SW., Washington, DC. This document may also be purchased from the Commission's duplicating contractors, Best Copy and Printing, Inc., 445 12th Street, SW., Room CY-B402, Washington, DC 20054, telephone 800-378-3160 or www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Virginia, is amended by removing Channel 287B and adding Channel 299A at Norfolk, and by removing Channel 299A and adding Channel 287B at Windsor.

Federal Communications Commission.
John A. Karousos,
Assistant Chief, Audio Division, Media Bureau.

[FR Doc. 05-7062 Filed 4-12-05; 8:45 am]

BILLING CODE 6712-01-P